DEPARTMENT OF COMMERCE

National Oceanic and Atmospheric Administration

RIN 0648-XC720

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would facilitate compensation fishing under the monkfish Research Set-Aside Program by exempting vessels from monkfish days-at-sea possession limits. The compensation fishing is in support of a 2013 Monkfish Research Set-Aside project that is attempting to validate monkfish aging methods. The project is being conducted by the University of Massachusetts, Dartmouth, School for Marine Science and Technology.

Regulations under the Magnuson-Stevens Fishery Conservation and Management Act require publication of this notification to provide interested parties the opportunity to comment on applications for proposed exempted fishing permits.

DATES: Comments must be received on or before July 12, 2013.

ADDRESSES: You may submit written comments by any of the following methods:

• Email: nero.efp@noaa.gov. Include in the subject line “Comments on SMAST Monkfish RSA EFP.”

• Mail: John K. Bullard, Regional Administrator, NMFS, Northeast Regional Office, 55 Great Republic Drive, Gloucester, MA 01930. Mark the outside of the envelope “Comments on SMAST Monkfish RSA EFP.”

• Fax: (978) 281-9135.

FOR FURTHER INFORMATION CONTACT: Jason Berthiaume, Fishery Management Specialist, 978-281-9177.

SUPPLEMENTARY INFORMATION: The University of Massachusetts, Dartmouth, School for Marine Science and Technology (SMAST) submitted an application for an Exempted Fishing Permit (EFP) on May 14, 2013, requesting exemptions from the monkfish days-at-sea (DAS) possession limits to facilitate research that proposes to investigate monkfish large-scale movement patterns using data storage tags and to validate monkfish aging. The study was awarded 327 DAS under the 2013 Monkfish Research Set-Aside (RSA) Program.

The EFP would exempt vessels from the monkfish possession limits in the Southern (SFMA) and Northern Monkfish Fishery Management Areas. Up to 50 vessels could conduct monkfish compensation fishing under the requested EFP. Fishing activity would otherwise be conducted under normal monkfish commercial fishing practices. The vessels would use standard commercial gear and land monkfish for sale. Compensation fishing may occur through April 2014, with a possible extension through April 2015.

Monkfish EFPs that waive possession limits were first issued in 2007, and each year thereafter through 2011. The EFPs were approved to increase operational efficiency and to optimize research funds generated from RSA DAS. To ensure that the amount of monkfish harvested by vessels operating under the EFPs was similar to the amount of monkfish that was anticipated to be harvested under the 500 RSA DAS set-aside by the New England and Mid-Atlantic Fishery Management Councils, NOAA's National Marine Fisheries Service associates 3,200 lb (1,451 kg) of whole monkfish per RSA DAS. This amount is double the possession limit of Permit Category A and C vessels fishing in the SFMA. This was deemed a reasonable approximation because it is reflective of how the standard monkfish commercial fishery operates. It is likely that RSA grant recipients would optimize their RSA DAS award by utilizing this possession limit. Therefore, if approved, participating vessels could use up to 327 DAS, or up to 1,046,400 lb (474,639 kg) of whole monkfish, under the EFP, whichever comes first.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 24, 2013.
Kelly Denit,
Acting Deputy Director, Office of Sustainable Fisheries, National Marine Fisheries Service.

[FR Doc. 2013-15474 Filed 6-26-13; 8:45 am]

BILLING CODE 3510-22-P